SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions to and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

I. The information collections below are pending at SSA. SSA will submit them to OMB within 60 days from the date of this notice. To be sure we consider your comments, we must receive them no later than December 24, 2012. Individuals can obtain copies of the collection instruments by writing to the above email address.

1. Representative Payment Policies and Administrative Procedures for Imposing Penalties for False or Misleading Statements or Withholding of Information—0960-0740. This information collection request (ICR) comprises several regulation sections that provide additional safeguards for Social Security beneficiaries whose representative payees receive their payments. SSA requires representative payees to notify us of any event or change in circumstances that would affect receipt of benefits or performance of payee duties. SSA uses the information to determine continued eligibility for benefits, the amount of benefits due, and if the payee is suitable to continue serving as payee. The respondents are representative payees who receive and use benefits on behalf of Social Security beneficiaries.

Type of Collection—Extension of an OMB-Approved Information Collection
Regulation Section | Number of respondents | Frequency of response | Average burden per response (minutes) | Estimated total annual burden (hours)
404.2035(d)—Paper/Mail | 27,500 | 1 | 5 | 2,292
404.2035(d)—Office interview/Intranet | 522,500 | 1 | 5 | 43,542
404.2035(f)—Paper/Mail | 275 | 1 | 5 | 23
404.2035(f)—Office interview/Intranet | 5,225 | 1 | 5 | 435
416.635(d)—Paper/Mail | 15,000 | 1 | 5 | 1,250
416.635(d)—Office interview/Intranet | 285,000 | 1 | 5 | 23,750
416.635(f)—Paper/Mail | 150 | 1 | 5 | 13
416.635(f)—Office interview/Intranet | 2,850 | 1 | 5 | 238
Total | 858,500 |  |  | 71,543

2. Protecting the Public and Our Personnel To Ensure Operational Effectiveness (RIN 0960-AH35), Regulation 3729I—20 CFR 422.905, 422.906—0960-0796.

Background

When members of the public demonstrate disruptive, violent, or threatening actions or behavior toward SSA employees, the agency takes measures to ensure the safety of everyone involved, including banning such individuals from appearing in person at any of our field offices. In lieu of in-person office visits, the agency provides services to banned individuals through alternate methods, including our 800 number, online applications, mail services, or, in limited circumstances, face-to-face services by appointment with additional security present.

On September 2, 2011, the agency published regulations and notifications processes for the ban decision at 76 FR 54700. The current ICR requests full approval for the public reporting burdens from the interim final rules. We previously obtained emergency OMB approval for these burdens.

Information Collection Description

The interim final ban decision rules contain two public reporting burdens:

• 20 CFR 422.905—after SSA issues a ban decision against an individual, the individual has 60 days to appeal the determination. Individuals must submit a written appeal stating why they believe SSA should rescind the ban and allow them to conduct business with us on a face-to-face basis in one of our offices. There is no printed form for this request; banned individuals create their own written statement of appeal, and submit it to a sole decision-maker in the regional office of the region where the ban originated. The individuals may also provide additional documentation to support their appeal.

• 20 CFR 422.906—three years after the original ban decision, banned individuals may re-submit a written appeal of the determination. The same criteria apply as for the original appeal: (1) It must be in writing;

(2) it must go to a sole decision-maker in the regional office of the region where the ban originated for review; and (3) it may accompany supporting documentation.

Respondents for this collection are individuals appealing their banning from SSA field offices.

Type of Request—Extension of an OMB-Approved Information Collection
Regulation section | Number of respondents | Frequency of response | Average burden per response (minutes) | Estimated total annual burden (hours)
20 CFR 422.905 | 75 | 1 | 15 | 19
20 CFR 422.906 | 75 | 1 | 20 | 25
Totals | 150 |  |  | 44

II. SSA submitted the information collections below to OMB for clearance. Your comments regarding the information collections would be most useful if OMB and SSA receive them 30 days from the date of this publication. To be sure we consider your comments, we must receive them no later than November 23, 2012. Individuals can obtain copies of the OMB clearance packages by writing to OR.Reports.Clearance@ssa.gov.

1. Employment Relationship Questionnaire—20 CFR 404.1007—0960-0040. When SSA needs information to determine a worker's employment status for the purpose of maintaining a worker's earning records, the agency uses Form SSA-7160-F4 to determine the existence of an employer-employee relationship. We use the information to develop the employment relationship; specifically to determine whether a beneficiary is self-employed or an employee. The respondents are individuals seeking to establish their status as employees and their alleged employers.

Type of Request—Revision of an OMB-Approved Information Collection
Respondent type | Number of respondents | Frequency of response | Average burden per response (minutes) | Estimated total annual burden (hours)
Individuals | 8,000 | 1 | 25 | 3,333
Businesses | 7,200 | 1 | 25 | 3,000
State/Local Government | 800 | 1 | 25 | 333
Totals: | 16,000 |  |  | 6,666

2. Blood Donor Locator Service (BDLS)—20 CFR 401.200—0960-0501. The regulations on Privacy and Disclosure of Official Records and Information, Subpart C, stipulate that when blood donor facilities identify blood donations as human immunodeficiency virus-positive, the overseeing state agency must provide the names and Social Security Numbers of the affected donors to SSA's Blood Donor Locator Service. SSA uses this information to furnish the state agencies with the blood donors' address information to notify the blood donors. Respondents are state agencies acting on behalf of blood donor facilities.

Type of Request—Extension of an OMB-Approved Information Collection
Regulation section | Number of respondents | Frequency of response | Average burden per response (minutes) | Estimated total annual burden (hours)
20 CFR 401.200 | 10 | 5 | 15 | 13

3. The Ticket to Work and Self-Sufficiency Program—20 CFR 411—0960-0644. SSA's Ticket to Work (Ticket) Program transitions Social Security Disability Insurance (SSDI) and Supplemental Security Income (SSI) recipients toward independence by allowing them to receive Social Security payments while maintaining employment under the auspices of the program. SSA uses service providers, called Employment Networks (ENs), to supervise participant progress through the stages of Ticket Program participation, such as job searches and interviews, progress reviews, and changes in ticket status. ENs can be private for-profit and nonprofit organizations, as well as state vocational rehabilitation agencies (VRs). SSA and the ENs utilize the Ticket to Work Program Manager to operate the Ticket Program and exchange information about participants. For example, the ENs use the Program Manager to provide updates on tasks such as selecting a payment system or requesting payments for helping the beneficiary achieve certain work goals. Since the ENs are not PRA-exempt, the multiple information collections within the Ticket Program Manager require OMB approval, and we clear them under this ICR. Most of the categories of information in this ICR are necessary for SSA to: (1) Comply with the Ticket to Work legislation; and (2) provide proper oversight of the program. SSA collects this information through several modalities, including forms, electronic exchanges, and written documentation. The respondents are the ENs or state VRs, as well as SSDI beneficiaries and blind or disabled SSI recipients working under the auspices of the Ticket to Work Program.

This is a correction notice: SSA inadvertantly published incorrect burden information for this collection at 77 FR 47908, on 8/10/12. We are publishing correct burden data here.

Type of Request—Revision of an OMB-Approved Information Collection
Collection instrument | Number of respondents | Frequency of response | Average burden per response (minutes) | Estimated total annual burden (hours)
(a) 20 CFR 411.140(d)(2)—Interactive Voice Recognition Telephone | 6,428 | 1 | 2.5 | 268
(a) 20 CFR 411.140(d)(2)—Portal | 25,713 | 1 | 1.25 | 536
(a) 20 CFR 411.140(d)(3); 411.325(a); 411.150(b)(3)—SSA-1365 | 948 | 1 | 15 | 237
(a) 20 CFR 411.140(d)(3); 411.325(a); 411.150(b)(3)—SSA-1365 Portal | 3,792 | 1 | 11 | 695
(a) 20 CFR 411.140(d)(3); 411.325(a); 411.150(b)(3)—SSA-1370 | 1,565 | 1 | 60 | 1,565
(a) 20 CFR 411.140(d)(3); 411.325(a); 411.150(b)(3)—SSA-1370 Portal | 6,260 | 1 | 45 | 4,695
(a) 20 CFR 411.166; 411.170(b)—Electronic File Submission | 35,584 | 1 | 5 | 2,965
(b) 20 CFR 411.145; 411.325 | 1,995 | 1 | 15 | 499
(b) 20 CFR 411.145; 411.325—Portal | 7,980 | 1 | 11 | 1,463
(b) 20 CFR 411.535(a)(1)(iii)—Data Sharing/Portal | 8,505 | 1 | 5 | 709
(c) 20 CFR 411.192(b)&(c) | 6 | 1 | 30 | 3
(c) 20 CFR 411.200(b)—SSA-1375 | 112,362 | 1 | 15 | 28,091
(c) 20 CFR 411.200(b) -Portal | 64,824 | 1 | 10 | 10,804
(c) 20 CFR 411.210(b) | 41 | 1 | 30 | 21
(d) 20 CFR 411.365; 411.505; 411.515 | 5 | 1 | 10 | 1
(e) 20 CFR 411.325(d); 411.415 | * 1 | 1 | 480 | 8
(f) 20 CFR 411.575—SSA-1389; SSA-1391; SSA-1393; SSA-1396; SSA-1398; SSA-1399 | 5,610 | 1 | 40 | 3,740
(f) 20 CFR 411.575—Portal | 22,440 | 1 | 22 | 8,228
(f) 20 CFR 411.575—Automatic Payments | 28,050 | 1 | 0 | 0
(f) 20 CFR 411.560—SSA-1401 | 100 | 1 | 20 | 33
(g) 20 CFR 411.325(f) | 1,371 | 1 | 45 | 1,028
(h) 20 CFR 411.435; 411.615; 411.625 | 2 | 1 | 120 | 4
(i) 20 CFR 411.320—SSA-1394 | 42 | 1 | 10 | 7
(i) 20 CFR 411.320—SSA-1394 Portal | 168 | 1 | 7.5 | 21
Totals | 333,792 |  |  | 65,621
* (None received in 2010 or 2011).

Dated: October 19, 2012.
Faye Lipsky,
Reports Clearance Director, Social Security Administration.

[FR Doc. 2012-26151 Filed 10-23-12; 8:45 am]

BILLING CODE 4191-02-P